DEPARTMENT OF AGRICULTURE

Forest Service

Notice of Proposed New Fee Site

AGENCY: Forest Service, Agriculture (USDA).

ACTION: Notice of proposed new fee site.

SUMMARY: The Cleveland National Forest is proposing to charge a new fee at one recreation site listed in SUPPLEMENTARY INFORMATION of this notice. Funds from fees would be used for operation, maintenance, and improvements of this recreation site. An analysis of nearby developed recreation sites with similar amenities shows the proposed fee is reasonable and typical of similar sites in the area.

DATES: If approved, the new fees would be implemented no earlier than six months following the publication of this notice in the Federal Register.

ADDRESSES: Cleveland National Forest, 10845 Rancho Bernardo Road, Suite 200, San Diego, CA 92127.

FOR FURTHER INFORMATION CONTACT: Joseph Raffaele, Forest Recreation Program Manager, at 858-674-2961 or joseph.a.raffaele@usda.gov.

SUPPLEMENTARY INFORMATION: The Federal Recreation Lands Enhancement Act (Title VII, Pub. L. 108-447) directed the Secretary of Agriculture to publish a six-month advance notice in the Federal Register whenever new recreation fee areas are established. The fees are only proposed at this time and will be determined upon further analysis and public comment. Reasonable fees, paid by users of this site, will help ensure that the Forest can continue maintaining and improving recreation sites like this for future generations.

As part of this proposal, the Boulder Oaks Campground is proposing a $5 per person/per night backpacker walk-in campsite fee.

New fees would provide increased visitor opportunities, as well as increased staffing to address operations and maintenance needs and enhance customer service. Once public involvement is complete, this new fee will be reviewed by a Recreation Resource Advisory Committee prior to a final decision and implementation.

Advanced reservations will be available through www.recreation.gov or by calling 1-877-444-6777. The reservation service charges an $8.00 fee for reservations.

Dated: August 1, 2022.
Sandra Watts,
Acting Associate Deputy Chief, National Forest System.

[FR Doc. 2022-16770 Filed 8-4-22; 8:45 am]

BILLING CODE 3411-15-P